DEPARTMENT OF AGRICULTURE

Forest Service

Coconino Resource Advisory Committee

AGENCY: Forest Service, USDA.

ACTION: Notice of meeting.

SUMMARY: The Coconino Resource Advisory Committee (RAC) will meet in Flagstaff, Arizona. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://cloudapps-usda-gov.secure.force.com/FSSRS/RAC_page?id=001t0000002JcuiAAC.

DATES: The meeting will be held on Friday, Sept. 27, 2019, at 9:00 a.m.

All RAC meetings are subject to cancellation. For the status of the meeting prior to attendance, please contact Brady Smith, RAC Coordinator, by phone at 928-527-3490 or via email at brady.smith@usda.gov.

ADDRESSES: The meeting will be held at the Coconino National Forest, Supervisor's Office, 1824 South Thompson Street, Flagstaff, Arizona.

Written comments may be submitted as described under Supplementary Information. All comments, including names and addresses when provided, are placed in the record and are available for public inspection and copying. The public may inspect comments received at the Coconino National Forest, Supervisor's Office. Please call ahead at 928-527-3490 to facilitate entry into the building.

FOR FURTHER INFORMATION CONTACT: Brady Smith, RAC Coordinator, by phone at 928-527-3490 or via email at brady.smith@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Select a chairperson and vice-chairperson;

2. Review RAC Guidelines for voting;

3. Review Secure Rural Schools Act reauthorization requirements for funding projects with Title II funds;

4. Review and discuss each project proposal;

5. Hear public comments: Proponents of each project proposal;

6. Approve/Reject project proposals and determine amount of Title II funds that will be allocated to approved projects; and

7. Determine future meeting dates/times/locations.

The meeting is open to the public. The agenda will include time for people to make oral statements of three minutes or less. Individuals wishing to make an oral statement should request in writing by Friday, Sept. 20, 2019, to be scheduled on the agenda. Anyone who would like to bring related matters to the attention of the committee may file written statements with the committee staff before or after the meeting. Written comments and requests for time for oral comments must be sent to Brady Smith, RAC Coordinator, 1824 South Thompson Street, Flagstaff, Arizona 86004; by email to brady.smith@usda.gov, or via facsimile to 928-527-3620.

Meeting Accommodations: If you are a person requiring reasonable accommodation, please make requests in advance for sign language interpreting, assistive listening devices, or other reasonable accommodation. For access to the facility or proceedings, please contact Brady Smith, RAC Coordinator, by phone at 928-527-3490 or via email at brady.smith@usda.gov. All reasonable accommodation requests are managed on a case by case basis.

Dated: September 5, 2019.
Cikena Reid,
USDA Committee Management Officer.

[FR Doc. 2019-20538 Filed 9-20-19; 8:45 am]

BILLING CODE 3411-15-P